DEPARTMENT OF COMMERCE

National Institute of Standards and Technology

Technology Innovation Program (TIP) Advisory Committee

AGENCY: National Institute of Standards and Technology, Department of Commerce.

ACTION: Request for nominations of members to serve on the Technology Innovation Program Advisory Board.

SUMMARY: NIST invites and requests nomination of individuals for appointment to the Technology Innovation Program Advisory Board (Board). NIST will consider nominations received in response to this notice for appointment to the Board, in addition to nominations already received.

DATES: To be considered for the initial TIP Advisory Board, please submit nominations on or before March 27, 2008. After that date, nominations will be accepted on an ongoing basis and will be considered as and when vacancies arise.

ADDRESSES: Please submit nominations to Mr. Marc Stanley, National Institute of Standards and Technology, 100 Bureau Drive, Mail Stop 4700, Gaithersburg, MD 20899-4700. Nominations may also be submitted via fax to 301-869-1150.

FOR FURTHER INFORMATION CONTACT: Mr. Marc Stanley, National Institute of Standards and Technology, 100 Bureau Drive, Mail Stop 4700, Gaithersburg, MD 20899-4700; telephone 301-975-4644, fax 301-869-1150; or via e-mail at marc.stanley@nist.gov.

SUPPLEMENTARY INFORMATION: Section 3012 of the America COMPETES Act (Pub. L. 110-69) established the Technology Innovation Program (TIP). Paragraph (k) of section 3012 requires the establishment of a TIP Advisory Board that will advise the Director of the National Institute of Standards and Technology (NIST) on TIP programs, plans, and policies. The Board's charter may be found at: http://www.nist.gov/tip.

The Board will consist of ten members appointed by the Director of NIST, at least seven of whom shall be from United States industry, chosen to reflect the wide diversity of technical disciplines and industrial sectors represented in TIP projects. No member will be an employee of the Federal Government.

The Board will function solely as an advisory body, in compliance with the provisions of the Federal Advisory Committee Act.

Authority: 15 U.S.C. 278n(k), as amended by the America COMPETES Act (Pub. L. 110-69), Federal Advisory Committee Act: 5 U.S.C. App. 2.

Dated: March 5, 2008.
Richard F. Kayser,
Acting Deputy Director.

[FR Doc. E8-4879 Filed 3-11-08; 8:45 am]

BILLING CODE 3510-13-P